DEPARTMENT OF HEALTH AND HUMAN SERVICES

Food and Drug Administration

[Docket No. FDA-2010-N-0001]

Food Protection Workshop; Public Workshop

AGENCY: Food and Drug Administration, HHS.

ACTION: Notice of public workshop.

SUMMARY: The Food and Drug Administration (FDA), Office of Regulatory Affairs (ORA), Southwest Regional Office (SWRO), in co-sponsorship with the University of Arkansas (UA) Institute of Food Science and Engineering, is announcing a public workshop entitled “Food Protection Workshop.” This public workshop is intended to provide information about food safety, food defense, the regulations authorized by the Public Health Security and Bioterrorism Preparedness and Response Act of 2002 (the Bioterrorism Act), and other related subjects to the Food Protection Plan as it relates to food establishments such as farms, manufacturers, processors, distributors, retailers, and restaurants.

Date and Time: This public workshop will be held on June 9 and 10, 2010, from 8 a.m. to 5 p.m.

Location: The public workshop will be held at the Continuing Education Center, Two East Center St., Fayetteville, AR (located downtown).

Contact: David Arvelo, Food and Drug Administration, Southwest Regional Office, 4040 North Central Expressway, suite 900, Dallas, TX 75204, 214-253-4952, FAX: 214-253-4970, or e-mail: david.arvelo@fda.hhs.gov.

For information on accommodation options, visit http://www.uark.edu/ua/foodpro/Workshops/Food_Safety_Defense_Workshop.html or contact Steven C. Seideman, 2650 North Young Ave., Institute of Food Science & Engineering, University of Arkansas, Fayetteville, AR 72704, 479-575-4221, FAX: 479-575-2165, or e-mail: seideman@uark.edu.

Registration: You are encouraged to register by May 26, 2010. The University of Arkansas has a $250 registration fee to cover the cost of facilities, materials, speakers, and breaks. There is no fee for FDA employees. Seats are limited; please submit your registration as soon as possible. Course space will be filled in order of receipt of registration. Those accepted into the course will receive confirmation. Registration will close after the course is filled. Registration at the site is not guaranteed but may be possible on a space available basis on the day of the public workshop beginning at 8 a.m. The cost of registration at the site is $350 payable to: “The University of Arkansas.” If you need special accommodations due to a disability, please contact Steven C. Seideman (see Contact) at least 14 days in advance.

To register, please visit http://www.uark.edu/ua/foodpro/Workshops/Food_Safety_Defense_Workshop.html to register online or submit a check or money order for $250 payable to the “The University of Arkansas.” Mail to: Institute of Food Science & Engineering, University of Arkansas, 2650 North Young Ave., Fayetteville, AR 72704 along with the following information: Your name, affiliation, mailing address, phone number, fax, e-mail, and whether special accommodations are required.

Transcripts: Transcripts of the public workshop will not be available due to the format of this workshop. Workshop handouts may be requested at cost through the Freedom of Information Office (HFI-35), Food and Drug Administration, 5600 Fishers Lane, rm. 12A-16, Rockville, MD 20857, approximately 15 working days after the public workshop at a cost of 10 cents per page.

SUPPLEMENTARY INFORMATION: This public workshop is being held in response to the large volume of food protection concerns from food establishments (such as farms, manufacturers, processors, distributors, retailers, and restaurants) originating from the area covered by the FDA Dallas District Office. The SWRO presents this workshop to help achieve objectives set forth in section 406 of the Food and Drug Administration Modernization Act of 1997 (21 U.S.C. 393), which include working closely with stakeholders and maximizing the availability and clarity of information to stakeholders and the public. This is consistent with the purposes of the Small Business Representative Program, which are in part to respond to industry inquiries, develop educational materials, sponsor workshops and conferences to provide firms, particularly small businesses, with firsthand working knowledge of FDA's guidance, requirements, and compliance policies. This workshop is also consistent with the Small Business Regulatory Enforcement Fairness Act of 1996 (Public Law 104-121), as outreach activities by Government agencies to small businesses.

The goal of this public workshop is to present information that will enable food establishments (such as farms, manufacturers, processors, distributors, retailers, and restaurants) to better comply with any regulations authorized by the Public Health Security and Bioterrorism Preparedness and Response Act of 2002 (the Bioterrorism Act) relevant to such establishments, and to be aware of recommendations in food protection guidance, especially in light of growing concerns about food safety and defense. Information presented will be based on regulations, guidances, and information previously made available to the public. Topics to be discussed at the workshop include: (1) Food defense programs, (2) good manufacturing practices, (3) reportable food registry, (4) Hazard Analysis Critical Control Point (HACCP), (5) good agricultural practices, (6) food recalls, (7) pathogens of public health concern, and (8) risk management and vulnerability assessments and other related topics. For more information, please visit http://www.uark.edu/ua/foodpro/Workshops/Food_Safety_Defense_Workshop.html. FDA expects that participation in this public workshop will provide regulated industry with greater understanding of the regulatory and guidance perspectives on food protection and increase voluntary compliance and food defense awareness.

Dated: May 3, 2010.
Leslie Kux,
Acting Assistant Commissioner for Policy.

[FR Doc. 2010-10792 Filed 5-6-10; 8:45 am]

BILLING CODE 4160-01-S